DEPARTMENT OF TRANSPORTATION

National Highway Traffic Safety Administration

49 CFR Part 571

[Docket No. NHTSA-2014-0117]

RIN 2127-AL48

Federal Motor Vehicle Safety Standards; Motorcycle Brake Systems; Motorcycle Controls and Displays

AGENCY: National Highway Traffic Safety Administration (NHTSA), Department of Transportation.

ACTION: Notice of proposed rulemaking (NPRM).

SUMMARY: This document proposes to amend Federal Motor Vehicle Safety Standards (FMVSSs) Nos. 122 and 123, to allow the use of an internationally recognized symbol as the antilock brake system (ABS) malfunction telltale. Although the use of the symbol complies with the FMVSS No. 122 requirement that the letters “ABS” indicate a malfunction, the height of the letters “ABS” within the standardized malfunction symbol on many motorcycles do not comply with the letter height requirement in FMVSS No. 122. We also are proposing a technical change to correct a mistake in the 2012 final rule adopting FMVSS No. 122.

DATES: Submit comments on or before December 26, 2014.

ADDRESSES: You may submit comments electronically to the docket identified in the heading of this document by visiting the following Web site:

• Federal eRulemaking Portal: Go to http://www.regulations.gov. Follow the online instructions for submitting comments.

Alternatively, you can file comments using the following methods:

• Mail: Docket Management Facility: U.S. Department of Transportation, 1200 New Jersey Avenue SE., West Building Ground Floor, Room W12-140, Washington, DC 20590-0001

• Hand Delivery or Courier: West Building Ground Floor, Room W12-140, 1200 New Jersey Avenue, SE., between 9 a.m. and 5 p.m. ET, Monday through Friday, except Federal holidays.

• Fax: (202) 493-2251

Regardless of how you submit your comments, you should mention the docket number identified in the heading of this document.

Instructions: For detailed instructions on submitting comments and additional information on the rulemaking process, see the Public Participation heading of the SUPPLEMENTARY INFORMATION section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov. Follow the online instructions for accessing the dockets.

FOR FURTHER INFORMATION CONTACT: For technical issues, you may contact Mike Pyne, Office of Crash Avoidance Standards, by telephone at (202) 366-1810. For legal issues, you may contact David Jasinski, Office of the Chief Counsel, by telephone at (202) 366-2992. You may send mail to both of these officials at the National Highway Traffic Safety Administration, 1200 New Jersey Avenue, SE., Washington, DC 20590.

SUPPLEMENTARY INFORMATION:

I. Background

On August 24, 2012, NHTSA published a final rule in the Federal Register amending Federal Motor Vehicle Safety Standard (FMVSS) No. 122, Motorcycle Brake Systems.¹ This final rule adopted harmonized requirements and test procedures derived from a global technical regulation (GTR) for motorcycle brakes. The substantive provisions of FMVSS No. 122 had not been updated since their adoption in 1972 and no longer reflected the performance of modern motorcycle brake systems. Consistent with the 1998 United Nations Economic Commission for Europe (UNECE) Agreement Concerning the Establishment of Global Technical Regulations for Wheeled Vehicles, Equipment and Parts Which Can Be Fitted And/or Be Used On Wheeled Vehicles,² GTR No. 3 was established. GTR No. 3 combined the best practices of requirements and test procedures available internationally, mainly drawn from FMVSS No. 122, UNECE Regulation No. 78, and the Japanese Safety Standard JSS12-61.³

¹ 77 FR 51649.

² The 1998 UNECE Agreement Concerning the Establishment of Global Technical Regulations for Wheeled Vehicles, Equipment and Parts Which Can Be Fitted And/or Be Used On Wheeled Vehicles (1998 Agreement) was concluded under the auspices of the United Nations and provides for the establishment of globally harmonized vehicle regulations. This 1998 Agreement, whose conclusion was spearheaded by the United States, entered into force in 2000 and is administered by the UNECE's World Forum for the Harmonization of Vehicle Regulations (WP.29). See http://www.unece.org/trans/main/wp29/wp29wgs/wp29gen/wp29age.html (last accessed June 25, 2014).

³ A copy of GTR No. 3 was placed in the docket for the NPRM associated with the final rule revising FMVSS No. 122. See Docket No. NHTSA-2008-0150-0002.

Among the performance requirements adopted as part of the revised FMVSS No. 122 are tests for antilock brake system (ABS) performance. Prior to the August 2012 final rule, FMVSS No. 122 contained no ABS performance requirements. Although FMVSS No. 122 does not require motorcycles to be equipped with ABS, it includes test procedures and minimum performance requirements to assess the stability and stopping performance of motorcycles that are equipped with ABS. The new tests, adopted from the GTR, include stopping distance performance requirements on high and low friction surfaces, wheel lock tests on high and low friction surfaces, and wheel lock tests for high-to-low friction and low-to-high friction surface transitions. The new performance requirements also include a performance test related to the failure of the ABS system. These new requirements are mandatory for most motorcycles manufactured on or after September 1, 2014.

The prior version of FMVSS No. 122 did not include any requirements for an ABS malfunction telltale. Both the GTR and the 2008 NPRM proposing the revised FMVSS No. 122 specified that all motorcycles equipped with ABS must also be fitted with a yellow warning lamp that illuminates whenever there is a malfunction that affects the generation or transmission of signals in the motorcycle's ABS system. We provided no further specifications for the lamp in the NPRM.

In paragraph S5.1.10.2 of the final rule, consistent with other FMVSSs addressing ABS system failure ⁴ and with FMVSS No. 101, Controls and Displays,⁵ we required that motorcycle brake ABS system failures must be indicated to the driver with a telltale identified by the words “Antilock” or “Anti-lock” or “ABS.” We also added a specification that the telltale be labeled in letters at least 3/32 inch (2.4 mm) high. This minimum letter height specification is consistent with the existing requirement for a brake failure malfunction telltale identifier for motorcycles.⁶

⁴ See, e.g., 49 CFR 571.121, S5.1.6.2.

⁵ We referenced FMVSS No. 101, notwithstanding the fact that it does not apply to motorcycles, because it had an existing labeling requirement for ABS malfunction in Table 1.

⁶ See 49 CFR 571.122a, S5.1.3.1(d).

Several months after the agency published the August 2012 final rule, we were contacted by the Motorcycle Industry Council, Honda, and Harley-Davidson. These organizations informed NHTSA that ABS-equipped motorcycles that they produce already have ABS malfunction warning lamps and that the current practice is to use the International Organization for Standardization (ISO) symbol for ABS malfunction, which is pictured in Figure 1. The ISO symbol incorporates the letters “ABS” consistent with the requirement in FMVSS No. 122. However, the ISO symbol has no size requirement associated with it, nor is there a specification regarding the size of the lettering within the symbol.

Honda informed NHTSA that the typical height of the symbol on a production motorcycle equipped with ABS is 7 millimeters, and the letters “ABS” are approximately 2 millimeters high, though the dimensions may vary. We do not have information on the range of symbol or letter sizes among various makes and models, nor are we are aware of any standard that specifies symbol or letter size.

However, based on the information provided by Honda and conversations that the agency has had with the Motorcycle Industry Council and Harley-Davidson, we believe that, in order to comply with the letter height requirement for the ABS malfunction telltale identifier in FMVSS No. 122, manufacturers would have to enlarge the symbol or the telltale lamp considerably so that the letters “ABS” are 3/32 inch (2.4 millimeters) in height. Alternatively, they could add a separate label using “ABS” or “Antilock” or “Anti-Lock” that are the specified minimum height in place of, or in addition to, the ISO symbol. Motorcycle manufacturers assert that this would constitute a costly redesign of the telltale or instrument panel on many ABS-equipped motorcycles without any discernible safety benefit as a result of the redesign.

Upon consideration of the concerns raised by the Motorcycle Industry Council, Honda, and Harley-Davidson, the agency is proposing to remove the letter height specification for the ABS malfunction telltale if manufacturers use the ISO symbol for ABS malfunction. We are also proposing to remove the reference to the ABS malfunction telltale specified in FMVSS No. 101 because that standard does not apply to motorcycles. Instead, we are proposing to place the specification for the ABS malfunction telltale in FMVSS No. 123, Motorcycle Controls and Displays, which is the corresponding FMVSS applicable to motorcycles.⁷ However, if only text is used for the ABS malfunction telltale, the minimum letter height requirement would still apply.

⁷ The inclusion of the ISO symbol for ABS malfunction in FMVSS No. 123 is also consistent with the recently adopted GTR No. 12, related to the location, identification, and operation of motorcycle controls, telltales, and indicators. See http://www.unece.org/fileadmin/DAM/trans/main/wp29/wp29wgs/wp29gen/wp29registry/ECE-TRANS-180a12e.pdf. However, this rulemaking is not intended to implement any other provision of GTR No. 12.

We have no reason to believe that using the ISO symbol in lieu of text labeling at a minimum height would affect the safety of motorcycles or the general public. The types of failure indicated by the ABS malfunction telltale are electronic failures that result in the loss of ABS functionality, but do not cause loss of braking ability. As stated above, FMVSS No. 122 contains a performance requirement to ensure minimum braking capability in the event of an ABS system malfunction. Moreover, the agency has minimum performance requirements to ensure that a minimum level of braking capability is maintained even if there is a more severe system failure such as a brake fluid leak.

We request comment on whether there should be a minimum height requirement for an ABS malfunction telltale that uses the ISO symbol. Honda informed NHTSA that the height of the symbol on a motorcycle equipped with ABS is typically 7 millimeters. We request comment on whether a minimum height requirement for the ISO symbol should be applied and, if so, how large the symbol should be. Specifically, we ask whether the 7 millimeter height suggested by Honda as a minimum height (or a different height) would ensure readability without requiring a redesign of the telltale or instrument panel on many ABS-equipped motorcycles.

In view of this proposal, it is the intent of the agency not to enforce the minimum height requirement for the ABS malfunction telltale for any motorcycle that uses the ISO symbol for ABS malfunction set forth above in Figure 1. We intend to continue this nonenforcement policy until a final rule implementing this proposal becomes effective. This nonenforcement policy will provide relief to motorcycle manufacturers that use the ISO symbol for ABS system malfunction, but could not meet the September 1, 2014 deadline for compliance without incurring expenses associated with redesign of the telltale or instrument panel. Again, we have no information that adverse safety consequences would result from allowing motorcycle manufacturers to use the ISO symbol for the ABS malfunction telltale rather than requiring them to add a new ABS malfunction telltale at this time.

We are also proposing a correction of a typographical error in FMVSS No. 122. In paragraph S6.3.2(d), which contains the test procedure for the dry stop test with a single brake control actuated, the brake actuation force specified for motorcycles in categories 3-1, 3-2, 3-3, and 3-5 is specified as ≤350 N and, for category 3-4 motorcycles, ≤500 N. However, the higher actuation force was intended only for category 3-5 motorcycles rather than category 3-4 motorcycles. We are proposing this correction in this NPRM to be consistent with GTR No. 3 and the intent of the agency in the final rule.

Public Participation

How long do I have to submit comments?

We are providing a 30-day comment period. The comment period is shorter than the customary 60-day comment period used by the agency because the requirement that motorcycles equipped with ABS contain a malfunction telltale meeting the requirements of FMVSS No. 122 took effect on September 1, 2014. We do not believe a longer comment period is necessary for the public to consider this proposal and respond to it. A shorter comment period will allow us to issue a final rule more quickly to ensure any uncertainty about the legal requirements for the ABS malfunction telltale lamp is resolved as quickly as possible.

How do I prepare and submit comments?

Your comments must be written and in English. To ensure that your comments are correctly filed in the Docket, please include the docket number of this document in your comments.

Your comments must not be more than 15 pages long (49 CFR 553.21). We established this limit to encourage you to write your primary comments in a concise fashion. However, you may attach necessary additional documents to your comments. There is no limit on the length of the attachments.

Please submit your comments electronically to the docket following the steps outlined under ADDRESSES. You may also submit two copies of your comments, including the attachments, by mail to Docket Management at the beginning of this document, under ADDRESSES.

How can I be sure that my comments were received?

If you wish to be notified upon receipt of your mailed comments, enclose a self-addressed, stamped postcard in the envelope containing your comments. Upon receiving your comments, Docket Management will return the postcard by mail.

How do I submit confidential business information?

If you wish to submit any information under a claim of confidentiality, you should submit the following to the NHTSA Office of Chief Counsel (NCC-110), 1200 New Jersey Avenue SE., Washington, DC 20590: (1) A complete copy of the submission; (2) a redacted copy of the submission with the confidential information removed; and (3) either a second complete copy or those portions of the submission containing the material for which confidential treatment is claimed and any additional information that you deem important to the Chief Counsel's consideration of your confidentiality claim. A request for confidential treatment that complies with 49 CFR part 512 must accompany the complete submission provided to the Chief Counsel. For further information, submitters who plan to request confidential treatment for any portion of their submissions are advised to review 49 CFR part 512, particularly those sections relating to document submission requirements. Failure to adhere to the requirements of Part 512 may result in the release of confidential information to the public docket. In addition, you should submit two copies from which you have deleted the claimed confidential business information, to Docket Management at the address given at the beginning of this document under ADDRESSES.

Will the agency consider late comments?

We will consider all comments received before the close of business on the comment closing date indicated at the beginning of this notice under DATES. In accordance with our policies, to the extent possible, we will also consider comments received after the specified comment closing date. If we receive a comment too late for us to consider in developing the proposed rule, we will consider that comment as an informal suggestion for future rulemaking action.

How can I read the comments submitted by other people?

You may read the comments received on the Internet. To read the comments on the Internet, go to http://www.regulations.gov and follow the on-line instructions provided.

You may download the comments. The comments are imaged documents, in either TIFF or PDF format. Please note that even after the comment closing date, we will continue to file relevant information in the Docket as it becomes available. Further, some people may submit late comments. Accordingly, we recommend that you periodically search the Docket for new material.

You may also see the comments at the address and times given near the beginning of this document under ADDRESSES.

IV. Rulemaking Analyses and Notices

A. Executive Order 12866, Executive Order 13563, and DOT Regulatory Policies and Procedures

NHTSA has considered the impact of this rulemaking action under Executive Order 12866, Executive Order 13563, and the Department of Transportation's regulatory policies and procedures. This rulemaking is not considered significant and was not reviewed by the Office of Management and Budget under E.O. 12866, “Regulatory Planning and Review.” The rulemaking action has also been determined not to be significant under the Department's regulatory policies and procedures.

The effects of the proposed changes are so minimal that the preparation of a full regulatory evaluation is not required. We believe that this NPRM, if adopted, would not impose any costs upon manufacturers or vehicle purchasers. It would, however, prevent motorcycle manufacturers from incurring costs associated with redesign of the ABS malfunction telltale or instrument panel that were not intended. This proposal is not expect to have any impact on safety.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR part 121 define a small business, in part, as a business entity “which operates primarily within the United States.” (13 CFR 121.105(a)). No regulatory flexibility analysis is required if the head of an agency certifies the rule will not have a significant economic impact on a substantial number of small entities. SBREFA amended the Regulatory Flexibility Act to require Federal agencies to provide a statement of the factual basis for certifying that a rule will not have a significant economic impact on a substantial number of small entities.

NHTSA has considered the effects of this NPRM under the Regulatory Flexibility Act. I certify that this NPRM will not have a significant economic impact on a substantial number of small entities. This proposed rule would directly impact manufacturers of motorcycles equipped with ABS. We do not believe this NPRM will have a significant economic impact on those manufacturers. This NPRM would not require any action by manufacturers, but would prevent motorcycle manufacturers from incurring costs associated with redesign of the ABS malfunction telltale or instrument panel.

C. Executive Order 13132 (Federalism)

NHTSA has examined today's final rule pursuant to Executive Order 13132 (64 FR 43255, August 10, 1999) and concluded that no additional consultation with States, local governments or their representatives is mandated beyond the rulemaking process. The agency has concluded that the rulemaking would not have sufficient federalism implications to warrant consultation with State and local officials or the preparation of a federalism summary impact statement. The final rule would not have “substantial direct effects on the States, on the relationship between the national government and the States, or on the distribution of power and responsibilities among the various levels of government.”

NHTSA rules can preempt in two ways. First, the National Traffic and Motor Vehicle Safety Act contains an express preemption provision: When a motor vehicle safety standard is in effect under this chapter, a State or a political subdivision of a State may prescribe or continue in effect a standard applicable to the same aspect of performance of a motor vehicle or motor vehicle equipment only if the standard is identical to the standard prescribed under this chapter. 49 U.S.C. 30103(b)(1). It is this statutory command by Congress that preempts any non-identical State legislative and administrative law addressing the same aspect of performance.

The express preemption provision described above is subject to a savings clause under which “[c]ompliance with a motor vehicle safety standard prescribed under this chapter does not exempt a person from liability at common law.” 49 U.S.C. 30103(e). Pursuant to this provision, State common law tort causes of action against motor vehicle manufacturers that might otherwise be preempted by the express preemption provision are generally preserved. However, the Supreme Court has recognized the possibility, in some instances, of implied preemption of such State common law tort causes of action by virtue of NHTSA's rules, even if not expressly preempted. This second way that NHTSA rules can preempt is dependent upon there being an actual conflict between an FMVSS and the higher standard that would effectively be imposed on motor vehicle manufacturers if someone obtained a State common law tort judgment against the manufacturer, notwithstanding the manufacturer's compliance with the NHTSA standard. Because most NHTSA standards established by an FMVSS are minimum standards, a State common law tort cause of action that seeks to impose a higher standard on motor vehicle manufacturers will generally not be preempted. However, if and when such a conflict does exist—for example, when the standard at issue is both a minimum and a maximum standard—the State common law tort cause of action is impliedly preempted. See Geier v. American Honda Motor Co., 529 U.S. 861 (2000).

Pursuant to Executive Order 13132 and 12988, NHTSA has considered whether this rule could or should preempt State common law causes of action. The agency's ability to announce its conclusion regarding the preemptive effect of one of its rules reduces the likelihood that preemption will be an issue in any subsequent tort litigation.

To this end, the agency has examined the nature (e.g., the language and structure of the regulatory text) and objectives of today's rule and finds that this rule, like many NHTSA rules, prescribes only a minimum safety standard. As such, NHTSA does not intend that this rule preempt state tort law that would effectively impose a higher standard on motor vehicle manufacturers than that established by today's rule. Establishment of a higher standard by means of State tort law would not conflict with the minimum standard announced here. Without any conflict, there could not be any implied preemption of a State common law tort cause of action.

D. Executive Order 12988 (Civil Justice Reform)

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) specifies whether administrative proceedings are to be required before parties file suit in court; (6) adequately defines key terms; and (7) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceedings before they may file suit in court.

E. Protection of Children From Environmental Health and Safety Risks

Executive Order 13045, “Protection of Children from Environmental Health and Safety Risks” (62 FR 19855, April 23, 1997), applies to any rule that: (1) Is determined to be “economically significant” as defined under Executive Order 12866, and (2) concerns an environmental, health, or safety risk that the agency has reason to believe may have a disproportionate effect on children. If the regulatory action meets both criteria, the agency must evaluate the environmental health or safety effects of the planned rule on children, and explain why the planned regulation is preferable to other potentially effective and reasonably feasible alternatives considered by the agency.

This notice is part of a rulemaking that is not expected to have a disproportionate health or safety impact on children. Consequently, no further analysis is required under Executive Order 13045.

F. Paperwork Reduction Act

Under the Paperwork Reduction Act of 1995 (PRA), a person is not required to respond to a collection of information by a Federal agency unless the collection displays a valid OMB control number. There is not any information collection requirement associated with this NPRM.

G. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. Voluntary consensus standards are technical standards developed or adopted by voluntary consensus standards bodies. Technical standards are defined by the NTTAA as “performance-based or design-specific technical specification and related management systems practices.” They pertain to “products and processes, such as size, strength, or technical performance of a product, process or material.”

Examples of organizations generally regarded as voluntary consensus standards bodies include ASTM International, the Society of Automotive Engineers (SAE), and the American National Standards Institute (ANSI). If NHTSA does not use available and potentially applicable voluntary consensus standards, we are required by the Act to provide Congress, through OMB, an explanation of the reasons for not using such standards.

This NPRM proposes the inclusion of an ISO symbol for ABS malfunction in the FMVSS related to motorcycle controls and displays. Although this symbol is currently allowed by FMVSS No. 122, this rulemaking would remove the letter height requirement for the letters “ABS,” which is not included in the ISO standard.

H. Unfunded Mandates Reform Act

Section 202 of the Unfunded Mandates Reform Act of 1995 (UMRA) requires federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule. The provisions of section 205 do not apply when they are inconsistent with applicable law. Moreover, section 205 allows the agency to adopt an alternative other than the least costly, most cost-effective, or least burdensome alternative if the agency publishes with the final rule an explanation of why that alternative was not adopted.

This NPRM would not result in any expenditure by State, local, or tribal governments or the private sector of more than $100 million, adjusted for inflation.

I. National Environmental Policy Act

NHTSA has analyzed this rulemaking action for the purposes of the National Environmental Policy Act. The agency has determined that implementation of this action would not have any significant impact on the quality of the human environment.

J. Plain Language

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

L. Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects in 49 CFR Parts 571

Imports, Motor vehicle safety, Reporting and recordkeeping requirements, Tires.

In consideration of the foregoing, NHTSA proposes to amend 49 CFR part 571 as follows:

PART 571—FEDERAL MOTOR VEHICLE SAFETY STANDARDS

1. The authority citation for part 571 of Title 49 continues to read as follows:

Authority: 49 U.S.C. 322, 30111, 30115, 30117, and 30166; delegation of authority at 49 CFR 1.95.

2. Amend § 571.122 by revising S5.1.10.2(c) and S6.3.2(d)(2)(i) and (d)(2)(ii) to read as follows:

§ 571.122 Standard No. 122; Motorcycle brake systems.

* * * * *

S5.1.10.2 Antilock brake system warning lamps.

* * * * *

(c) The warning lamp shall be labeled in accordance with the specifications in Table 3 of Standard No. 123 (§ 571.123) for “ABS Malfunction” (Item No. 13).

* * * * *

S6.3.2 Test conditions and procedure.

* * * * *

(d) * * *

(2) * * *

(i) ≤350 N for motorcycle categories 3-1, 3-2, 3-3, and 3-4.

(ii) ≤500 N for motorcycle category 3-5.

* * * * *

3. Amend § 571.123 by revising Table 3 to read as follows:

§ 571.123 Standard No. 123; Motorcycle controls and displays.

* * * * *

BILLING CODE 4910-59-P

Issued in Washington, DC, on November 19, 2014 under authority delegated in 49 CFR 1.95, 501.5, and 501.8.
R. Ryan Posten,
Associate Administrator for Rulemaking.

[FR Doc. 2014-27871 Filed 11-25-14; 8:45 am]

BILLING CODE 4910-59-C